SECURITIES AND EXCHANGE COMMISSION

[OMB Control No. 3235-0688; SEC File No. 270-631]

Submission for OMB Review; Comment Request

Upon Written Request, Copies Available From: Securities and Exchange Commission, Office of Investor Education and Advocacy, Washington, DC 20549-0213.

Extension:

Rule 203A-5.

Notice is hereby given that pursuant to the Paperwork Reduction Act of 1995 (44 U.S.C. 3501 et seq.) the Securities and Exchange Commission (“Commission”) has submitted to the Office of Management and Budget (“OMB”) a request for extension of the previously approved collection of information discussed below.

The title for the collection of information is Rule 203A-5. Rule 203A-5 (17 CFR 275.203A-5) established a one-time requirement for investment advisers registered with the Commission as of January 1, 2012 to file a mandatory amendment to their Form ADV by March 30, 2012, and, if they no longer met Commission-registration eligibility requirements, to withdraw from registration by filing Form ADV-W by June 28, 2012. The deadlines for the information collected pursuant the rule were March 30, 2012 (for Form ADV amendments) and June 28, 2012 (for withdrawals). The Commission is no longer collecting any information pursuant to the rule.

Accordingly, the staff estimates that, each year, no advisers will have to file a Form ADV amendment or Form ADV-W withdrawal pursuant to rule 203A-5, and that the total burden for the information collection is zero hours at a cost of $0. Although Commission staff estimates that there is no burden associated with rule 203A-5, the staff is requesting a one hour burden for administrative purposes.

The collection of information under rule 203A-5 was mandatory. The information provided under rule 203A-5 is not kept confidential. An agency may not conduct or sponsor, and a person is not required to respond to a collection of information unless it displays a currently valid OMB control number.

The public may view the background documentation for this information collection at the following Web site, www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Thomas Bayer, Chief Information Officer, Securities and Exchange Commission, c/o Remi Pavlik-Simon, 100 F Street NE., Washington, DC 20549 or send an email to: PRA_Mailbox@sec.gov. Comments must be submitted to OMB within 30 days of this notice.

Dated: April 4, 2014.
Kevin M. O'Neill,
Deputy Secretary.

[FR Doc. 2014-08000 Filed 4-9-14; 8:45 am]

BILLING CODE 8011-01-P